DEPARTMENT OF ENERGY

Federal Energy Regulatory Commission

Notice of Settlement Agreement and Soliciting Comments

December 21, 2000.

Take notice the following Settlement Agreement has been filed with the Commission and is available for public inspection:

a. Type of Application: Settlement on New Minor License Application.

b. Project No.; 2694-002, Project Name; Queens Creek, Applicant; Nantahala Power and Light, a Division of Duke Engineering Corporation.

c. Date Settlement Agreement Filed: October 30, 2000.

d. Location: On Queens Creek, near the town of Topton, in Macon County, North Carolina. The project would not utilize federal lands.

e. Filed Pursuant to: Federal Power Act, 16 U.S.C. 791(a)-825(r).

f. Applicant Contact: John Wishon; 301 NP&L Loop Road; Franklin, NC 28734; (828) 369-4604.

g. FERC Contact: Kevin Whalen (202) 219-2790.

h. Deadline dates: Comments due: January 29, 2001. Replay comments due: February 12, 2001.

i. All documents (original and eight copies) should be filed with: David P. Boergers, Secretary; Federal Energy Regulatory Commission; 888 First Street, NE; Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Protests, comments on filings, comments on environmental assessments and environmental impact statements, and reply comments may be filed electronically via the internet in lieu of paper. See 18 CFR 385.2001(a)(1)(iii) and the instructions on the Commission's web site at http://www.ferc.fed.us/efi/doorbell.htm.

j. A Settlement Agreement was filed with the Commission on October 30, 2000. The agreement is the final, executed Queens Creek Settlement Agreement for Project No. 2694. The purpose of the agreement is to resolve among the signatory parties issues related to reservoir operating limits, recreational facility improvements, and minimum flows in the bypass reach, as well as other resolved subjects. Comments and reply comments on the Settlement Agreement are due as indicated in item h. above.

l. A copy of the offer of settlement is available for inspection and reproduction at the Commission's Public Reference Room, located at 888 First Street, NE, Room 2A, Washington, DC 20246, or by calling (202) 208-1371. The Settlement Agreement may be viewed on the web at http://www.ferc.fed.us/online/rims.htm (call (202) 208-2222 for assistance). A copy is also available for inspection and reproduction at the address in item f above.

Linwood A. Watson, Jr.,
Acting Secretary.

[FR Doc. 00-33105 Filed 12-27-00; 8:45 am]

BILLING CODE 6717-01-M